DEPARTMENT OF ENERGY

Plains & Eastern Clean Line Transmission Project Draft Environmental Impact Statement

AGENCY: Department of Energy.

ACTION: Notice of availability and public hearings.

SUMMARY: The U.S. Department of Energy (DOE) announces the availability of the Draft Environmental Impact Statement for the Plains & Eastern Clean Line Transmission Project (DOE/EIS-0486; Draft EIS) for a 90-day public comment period. DOE also announces 15 public hearings to receive comments on the Draft EIS. In addition, DOE invites comments on the National Historic Preservation Act Section 106 process and any potential adverse impacts to historic properties from the proposed Project. Major facilities associated with the proposed Project include converter stations in Oklahoma and Tennessee; an approximately 720-mile high voltage direct current (HVDC) transmission line; an alternating current (AC) collection system; and access roads. This Draft EIS evaluates the potential environmental impacts of the proposed Project and alternatives to it.

DATES: DOE invites comments on this Draft EIS and on the National Historic Preservation Act Section 106 process and any potential adverse impacts to historic properties from the proposed Project and alternatives during a 90-day period, which ends on March 17, 2015. Comments submitted after the close of the comment period will be considered to the extent practicable. The Department will hold 15 public hearings at the locations, dates, and start times listed in SUPPLEMENTARY INFORMATION below.

ADDRESSES: Written comments on the Draft EIS may be provided on the EIS Web site at http://www.plainsandeasterneis.com (preferred) or addressed to: Plains & Eastern EIS, 216 16th Street, Suite 1500, Denver, Colorado 80202; via email to comments@PlainsandEasternEIS.com; or by facsimile to (303) 295-2818. Please mark envelopes and email subject lines as Plains & Eastern Draft EIS Comments.

FOR FURTHER INFORMATION CONTACT: For information on the Plains & Eastern EIS or the Section 106 process, contact Jane Summerson, Ph.D., DOE NEPA Document Manager on behalf of the Office of Electricity Delivery and Energy Reliability, U.S. Department of Energy, NNSA, PO Box 391 Building 401, Kirtland Air Force Base East, Albuquerque, NM 87185; email at Jane.Summerson01@nnsa.doe.gov; or phone (505) 845-4091.

For general information regarding the DOE NEPA process, contact Carol Borgstrom, Director, Office of NEPA Policy and Compliance (GC-54), U.S. Department of Energy, 1000 Independence Avenue SW., Washington, DC 20585; or phone at (202) 586-4600; voicemail at (800) 472-2756; or email at askNEPA@hq.doe.gov. Additional information regarding DOE's NEPA activities is available on the DOE NEPA Web site at http://energy.gov/nepa.

SUPPLEMENTARY INFORMATION: In June 2010, DOE, acting through the Southwestern Power Administration and the Western Area Power Administration, both power marketing administrations within DOE, issued Request for Proposals (RFP) for new or upgraded transmission line projects under Section 1222 of the Energy Policy Act of 2005 (75 FR 32940; June 10, 2010). In response to the RFP, Clean Line Energy Partners LLC of Houston, Texas, the parent company of Plains and Eastern Clean Line LLC and Plains and Eastern Clean Line Oklahoma LLC (collectively referred to as Clean Line or the Applicant) submitted a proposal to DOE in July 2010 for the Plains & Eastern Clean Line Project. In August 2011, Clean Line modified the proposal.

The Applicant Proposed Project would include an overhead ± 600-kilovolt (kV) HVDC electric transmission system and associated facilities with the capacity to deliver approximately 3,500 megawatts primarily from renewable energy generation facilities in the Oklahoma and Texas Panhandle regions to load-serving entities in the Mid-South and Southeast United States via an interconnection with the Tennessee Valley Authority (TVA) in Tennessee. Major facilities associated with the Applicant Proposed Project consist of converter stations in Oklahoma and Tennessee; an approximately 720-mile HVDC transmission line; an AC collection system; and access roads. Pursuant to NEPA, DOE has identified and analyzed potential environmental impacts for several alternatives in addition to the Applicant Proposed Project, including alternative routes for the HVDC transmission line and adding a converter station in Arkansas (to deliver power to the Arkansas electrical grid).

DOE has prepared this Draft EIS in consultation with the following cooperating agencies: the Bureau of Indian Affairs, Natural Resources Conservation Service, TVA, U.S. Army Corps of Engineers, U.S. Environmental Protection Agency Regions 4 and 6, and the U.S. Fish and Wildlife Service. In the Draft EIS, DOE analyzes the potential environmental impacts of the Applicant Proposed Project, the range of reasonable alternatives, and a No Action Alternative. The potential environmental impacts resulting from connected actions (wind energy generation and substation and transmission upgrades related to the Project) are also analyzed in the Draft EIS.

DOE's purpose and need for agency action is to implement Section 1222 of the Energy Policy Act of 2005. To that end, DOE needs to decide whether and under what conditions it would participate in the Applicant Proposed Project. DOE has not identified a preference for whether to participate with Clean Line in the Project in some manner as prescribed by Section 1222. DOE will identify its preference for whether to participate with Clean Line in the Applicant Proposed Project and its preferred alternatives for each of the Project elements (including route alternatives) in the Final EIS after evaluating public comments and agency input received on the Draft EIS.

Public hearings. All public hearings will follow the same format. An open house will be held from 5:00 p.m.-5:45 p.m., during which DOE and its contractors will be available to answer questions in an informal setting. Clean Line personnel also will be available to answer technical questions regarding the Project. The open house will be followed by a presentation at 5:45 p.m. by Dr. Summerson, DOE NEPA Document Manager, who will describe the Draft EIS, the NEPA and Section 106 processes, and the methods that can be used to submit comments. The formal public comment portion of the meeting will begin at 6:15 p.m. During this time, interested parties may present oral comments to DOE. A court reporter will transcribe the comments presented at each hearing. Individuals wishing to speak at a hearing should register when they arrive. DOE will initially allot three minutes to each commenter to ensure that as many people as possible have the opportunity to speak. More time may be provided, as circumstances permit. Written comments may be submitted at the hearing or by the other methods described in ADDRESSES above. It is DOE's practice to make comments, including names and addresses of respondents, available for public review. Before including your address, phone number, email address, or other personal identifying information with your comments, be advised that your entire comment, including your personal identifying information, may be made publicly available at any time. Although you may ask us in your comment to withhold your personal identifying information from public review, we cannot guarantee that we will be able to do so. All submissions from organizations and businesses, and from individuals identifying themselves as representatives or officials of organizations or businesses, will be available for public inspection in their entirety. DOE will give equal consideration to oral and written comments in preparing the Final EIS. The locations, dates, and starting times of the public hearings are listed in the table below:

Date and time | Location
Monday, January 26—5:00 pm | Woodward Convention Center, 3401 Centennial Lane, Woodward, OK 73801.
Tuesday, January 27—5:00 pm | Pickle Creek Center, 822 NE 6th Street , Guymon, OK 73942.
Wednesday, January 28—5:00 pm | Beaver County Fairgrounds, Pavilion Building, 1107 Douglas Avenue, Beaver, OK 73932.
Thursday, January 29—5:00 pm | Ochiltree County Exposition Center, 402 Expo Drive , Perryton, TX 79070.
Monday, February 2—5:00 pm | Muskogee Civic Center, Room D, 425 Boston Street, Muskogee, OK 74401.
Tuesday, February 3—5:00 pm | Cushing Youth and Community Center, 700 South Little, Cushing, OK 74023.
Wednesday, February 4—5:00 pm | The Wes Watkins Center, 207 Wes Watkins Center, Exhibit Hall 111/112, (Hall of Fame and Washington), Stillwater, OK 74078.
Thursday, February 5—5:00 pm | Enid Convention Hall, Nick Benson Memorial Ballroom, 301 South Independence, Enid, OK 73701.
Monday, February 9—5:00 pm | Arkansas State University-Newport, Student Community Center, 7648 Victory Boulevard, Newport, AR 72112.
Tuesday, February 10—5:00 pm | Carmichael Community Center Auditorium, 801 S. Elm, Searcy, AR 72143.
Wednesday, February 11—5:00 pm | Arkansas State University—Marked Tree Student Center, 33500 Highway 63 E, Marked Tree, AR 72365.
Thursday, February 12—5:00 pm | Harvell Civic Center Auditorium, 8077 Wilkinsville Rd., Millington, TN 38053.
Tuesday, February 17—5:00 pm | Lake Point Conference Center—Event Center, 61 Lake Point Lane, Russellville, AR 72802.
Wednesday, February 18—5:00 pm | Fort Smith Convention Center, Exhibit Hall A, 55 7th St, Fort Smith, AR 72901.
Thursday, February 19—5:00 pm | University of Arkansas Community College at Morrilton, Fine Arts Building Auditorium, 1537 University Blvd., Morrilton, AR 72110.

Availability of the Draft EIS. The Draft EIS is available on the EIS Web site at http://www.plainsandeasterneis.com and on the DOE NEPA Web site at http://nepa.energy.gov/. A printed summary and CD of the complete document and, if preferred, a complete printed copy of the Draft EIS (approximately 3,700 pages), may be requested from info@PlainsandEasternEIS.com. Copies of the Draft EIS have been distributed to appropriate members of Congress, state and local government officials, American Indian tribal governments, and other federal agencies, groups, and interested parties. Copies of the complete Draft EIS and supporting documents are also available for inspection at the following locations:

Oklahoma

• Guymon Public Library—1718 N. Oklahoma St., Guymon, OK 73942

• Beaver County Pioneer Library—201 Douglas Ave., Beaver, OK 73932

• Woodward Public Library—1500 W. Main St., Woodward, OK 73801

• Muskogee Public Library—801 W. Okmulgee Ave., Muskogee, OK 74401

• Enid & Garfield County Public Library—120 W. Maine St., Enid, OK 73701

• Buffalo Public Library—11 E. Turner St., Buffalo, OK 73834

• Fairview City Library—115 S. 6th St., Fairview, OK 73737

• Guthrie Public Library—201 N. Division St., Guthrie, OK 73044

• Stillwater Public Library—1107 S. Duck St., Stillwater, OK 74955

• Chandler Public Library—1021 Manvel Ave., Chandler, OK 74834

• Montfort and Allie B. Jones Memorial Library—111 W. 7th Ave., Bristow, OK 74010

• Bartlett-Carnegie Sapulpa Public Library—27 W. Dewey Ave., Sapulpa, OK 74066

• Okmulgee Public Library—218 S. Okmulgee Ave., Okmulgee, OK 74447

• Stanley Tubbs Memorial Library—101 E. Cherokee Ave., Sallisaw, OK 74955

Arkansas

• Van Buren Public Library—1409 Main St., Van Buren, AR 72956

• Pope County Library—116 E. 3rd St., Russellville, AR 72801

• Jackson County/W.A. Billingsley Memorial Library—213 Walnut St., Newport, AR 72112

• Searcy Public Library—113 E. Pleasure Ave., Searcy, AR 72143

• Marked Tree Public Library—102 Locust St., Marked Tree, AR 72365

• Franklin County Library—120 S. 2nd St., Ozark, AR 72949

• Johnson County Library—2 Taylor Cir., Clarksville, AR 72830

• Conway County Library—101 W. Church St., Morrilton, AR 72110

• Conway Public Library—1900 W. Tyler St., Conway, AR 72034

• Mary I. Wold Cleburne County Library—1009 W. Main St., Heber Springs, AR 72543

• Poinsett County Library—200 N. East St., Harrisburg, AR 72432

• Blytheville Public Library—200 N. 5th St., Blytheville, AR 72315

• Osceola Public Library—320 W. Hale Ave., Osceola, AR 72370

• Cross County Library—410 E. Merriman Ave., Wynne, AR 72396

Tennessee

• Munford Memorial Library—1476 Munford Ave., Munford, TN 38058

Texas

• Hansford County Library—122 Main St., Spearman, TX 79081

Issued in Washington, DC, on December 11, 2014.
David S. Ortiz,
Deputy Assistant Secretary, Office of Electricity Delivery and Energy Reliability.

[FR Doc. 2014-29524 Filed 12-16-14; 8:45 am]

BILLING CODE 6450-01-P